DEPARTMENT OF STATE

[Public Notice 5609]

30-Day Notice of Proposed Information Collection: DSP-122, Supplemental Registration for the Diversity Immigrant Visa Program, OMB No. 1405-0098

ACTION: Notice of request for public comment and submission to OMB of proposed collection of information.

SUMMARY: The Department of State has submitted the following information collection request to the Office of Management and Budget (OMB) for approval in accordance with the Paperwork Reduction Act of 1995.

• Title of Information Collection: Supplemental Registration for the Diversity Immigrant Visa Program.

• OMB Control Number: 1405-0098.

• Type of Request: Extension of a Currently Approved Collection.

• Originating Office: Bureau of Consular Affairs, Office of Visa Services.

• Form Number: DSP-122.

• Respondents: Diversity visa applicants.

• Estimated Number of Respondents: 60,000.

• Estimated Number of Responses: 60,000.

• Average Hours Per Response: 30 minutes.

• Total Estimated Burden: 30,000.

• Frequency: Once per application.

• Obligation to Respond: Required to obtain benefit.

DATES: Submit comments to the Office of Management and Budget (OMB) for up to 30 days from November 7, 2006.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Andrea Lage of the Office of Visa Services, U.S. Department of State, 2401 E. Street, NW. L-603, Washington, DC 20522, who may be reached at (202) 663-1399 or lageab@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Kentucky Consular Center (KCC) will registered selected diversity visa lottery entries and then send the applicant an Instruction Package for Immigrant Visa Applicants, which consists of DS-122 (Supplemental Registration for the Diversity Immigrant Visa Program) and DS-230 (Application for Immigrant Visa and Alien Registration Part I and II). In order for an applicant to be considered documentarily qualified for a visa, the applicant must complete and return both of the above-mentioned forms to KCC. Upon receipt of these forms KCC will transmit the Immigrant Visa Appointment Package and schedule an appointment for the applicant.

Methodology

Applicants must return the completed form to the KCC via mail.

Dated: October 18, 2006.
Stephen A. Edson,
Deputy Assistant Secretary, Bureau of Consular Affairs, Department of State.

[FR Doc. E6-18740 Filed 11-6-06; 8:45 am]

BILLING CODE 4710-06-P